DEPARTMENT OF ENERGY

Federal Energy Regulatory Commission

[Docket No. RP01-69-000]

Texas Eastern Transmission Corporation; Notice of Proposed Changes in FERC Gas Tariff

November 3, 2000.

Take notice that on October 31, 2000, Texas Eastern Transmission Corporation (Texas Eastern) tendered for filing as part of its FERC Gas Tariff, Sixth Revised Volume No. 1 and Original Volume No. 2, the tariff sheets listed on Appendix B to the filing, to become effective December 1, 2000.

Texas Eastern states that it is reducing its rates to effect an annual cost reduction of approximately $137 million at December 1, 2000 and to effect new applicable shrinkage factors for the year commencing December 1, 2000. Texas Eastern states that the approximate $137 million rate reduction filing is based upon the projected full recovery of Order No. 636 transition costs as of December 1, 2000, and that if Texas Eastern has in fact overrecovered its Non-Spot Costs as of December 1, 2000, Texas Eastern will return any such excess collection to its customers as described herein by crediting the ASA Deferred Account for ultimate flow back to its customers.

Texas Eastern also states that to the extent that the actual data establishes that Texas Eastern has not fully recovered such Non-Spot Costs before December 1, 2000, Texas Eastern will voluntarily absorb any such unrecovered Non-Spot Costs in order to assure its customers a rate reduction for the upcoming winter.

Texas Eastern states that the revised tariff sheets are being filed (1) pursuant to Section 15.6, Applicable Shrinkage Adjustment (ASA), contained in the General Terms and Conditions of Texas Eastern's FERC Gas Tariff, Sixth Revised Volume No. 1, (2) in compliance with the Stipulation and Agreement (Global Settlement) approved by the Commission in its order issued May 12, 1994 [67 FERC ¶ 61,170, reh'g denied, 68 FERC ¶ 61,062 (1994)], and (3) in compliance with the Joint Stipulation and Agreement Amending Global Settlement (Amended Global Settlement) approved by the Commission in its order issued August 28, 1998 [84 FERC ¶ 61,200 (1998)].

Texas Eastern states that the impact of the filing on Texas Eastern's rates, in combination with the Annual PCB-Related Costs filing being filed concurrently, for the upcoming winter to be effective on December 1, 2000, equates to an overall decrease of 8.32 cents for typical long-haul service under Rate Schedule FT-1 from Access Area Zone East Louisiana to Market Zone 3 (ELA-M3) as follows:

Rate impact | 100% LF impact ($/dth)
Removal of the Non Spot Fuel Component | ($0.0400)
Removal of the Fuel Reservation Charge Adjustment | (0.0350)
Amended Global Settlement Step 2 Rate Reduction | (0.0248)
PCB Year 11 Filing | (0.0053)
ASA Surcharge | (0.0034)
Total Rate Impact | (0.1085)
Fuel Retention Impact:
Winter Season ASA Percentage Increase—0.62%
Rate Equivalent at P.I.R.A. projected price of $4.08/dth—$0.0253
Grand Total Rate Impact—$(0.0832)

Texas Eastern states that copies of the filing were mailed to all affected customers of Texas Eastern and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28757 Filed 11-8-00; 8:45 am]

BILLING CODE 6717-01-M